DEFENSE NUCLEAR FACILITIES SAFETY BOARD

Sunshine Act Notice

AGENCY: Defense Nuclear Facilities Safety Board.

ACTION: Notice of public meeting.

SUMMARY: Pursuant to the provisions of the Government in the Sunshine Act, 5 U.S.C. 552b, and as authorized by 42 U.S.C. 2286b, notice is hereby given of a two-part public meeting and hearing to be held by the Defense Nuclear Facilities Safety Board in Augusta, Georgia. Interested persons or groups may present comments, technical information, or data concerning safety issues related to the matters to be considered.

DATE AND TIME OF MEETING: June 16, 2011. Session I: 1 p.m.-5 p.m.; Session II: 7 p.m.-9 p.m.

PLACE: The Bell Auditorium at the Augusta Entertainment Complex, 712 Telfair Street, Augusta, GA 30901-2327.

STATUS: Open. While the Government in the Sunshine Act does not require that the scheduled discussion be conducted in a meeting, the Board has determined that an open meeting in this specific case furthers the public interests underlying both the Sunshine Act and the Board's enabling legislation.

MATTERS TO BE CONSIDERED: The Board wishes to further investigate safety matters and gather other information related to public health and safety, including that of the workers, at the Savannah River Site, particularly with respect to liquid waste processing, emergency preparedness, and nuclear materials disposition.

During Session I, the Board will receive testimony regarding liquid waste processing. The Board seeks to further understand what the Department of Energy (DOE) is currently doing to stabilize high-level waste as well as what has already been done to reduce risk in the tank farms. The Board will examine the state of emergency preparedness at the Site and will receive testimony concerning how well DOE and its contractors are prepared for events at the Site and how well the different organizations have integrated their preparations.

During Session II, the Board will receive testimony regarding nuclear materials disposition. The Board is concerned about how DOE will dispose of nuclear materials in light of the potential termination of chemical processing at H-Canyon and HB-Line. The Board will explore uncertainties in the new disposition plans and whether extended storage of nuclear materials may cause safety problems.

CONTACT PERSON FOR MORE INFORMATION: Brian Grosner, General Manager, Defense Nuclear Facilities Safety Board, 625 Indiana Avenue, NW., Suite 700, Washington, DC 20004-2901, (800) 788-4016. This is a toll-free number.

SUPPLEMENTARY INFORMATION: Public participation in the meeting and hearing is invited. The Board is setting aside approximately thirty minutes at the end of each session for presentations and comments from the public. Requests to speak may be submitted in writing or by telephone. The Board asks that commentators describe the nature and scope of their oral presentations. Those who contact the Board prior to close of business on June 10, 2011, will be scheduled to speak at the session of the meeting and hearing most relevant to their oral presentations. At the beginning of Session I, the Board will post a schedule of speakers at the entrance to the meeting and hearing room. Anyone who wishes to comment or provide technical information or data may do so in writing, either in lieu of, or in addition to, making an oral presentation. The Board Members may question presenters to the extent deemed appropriate. Documents will be accepted at the meeting and hearing or may be sent to the Board's Washington, DC, office.

The Board will hold the record open until July 18, 2011, for the receipt of additional materials. A transcript of the meeting and hearing will be made available by the Board for inspection by the public at the Board's Washington, DC, office and at DOE's public reading room at the DOE Federal Building, 1000 Independence Avenue, SW., Washington, DC 20585. The Board specifically reserves its right to further schedule and otherwise regulate the course of the meeting and hearing, to recess, reconvene, postpone, or adjourn the meeting and hearing, conduct further reviews, and otherwise exercise its power under the Atomic Energy Act of 1954, as amended.

Dated: May 13, 2011.
Peter S. Winokur,
Chairman.

[FR Doc. 2011-12245 Filed 5-13-11; 4:15 pm]

BILLING CODE 3670-01-P